DEPARTMENT OF DEFENSE

Office of the Secretary

Defense Task Force on Sexual Assault in the Military Services

AGENCY: Office of the Under Secretary of Defense (Personnel and Readiness); DoD.

ACTION: Committee meeting.

SUMMARY: Pursuant to the Federal Advisory Committee Act of 1972 (5 U.S.C., Appendix, as amended), the Sunshine in Government Act of 1976 (5 U.S.C. 522b, as amended), 41 CFR 102-3.140, 41 CFR 102-3.150, and 41 CFR 102-3.160 announcement is made of the following committee meeting of the Defense Task Force on Sexual Assault in the Military Services (hereafter referred to as the Task Force).

DATES: Open meeting: February 13, 2009 (8 a.m. to 12 p.m. Pacific Standard Time (hereafter referred to as PST).

Administrative and/or Preparatory work activities meeting: 1 p.m. to 3 p.m. PST.

ADDRESSES: San Diego, California. A specific location is still to be determined.

FOR FURTHER INFORMATION CONTACT: Colonel Jackson-Chandler, Designated Federal Officer, Defense Task Force on Sexual Assault in the Military Services, 2850 Eisenhower Avenue, Suite 100, Alexandria, Virginia 22314; Telephone: (703) 325-6640; Fax: (703) 325-6710/6711; DSN number 221-6640; cora.chandler@wso.whs.mil.

SUPPLEMENTARY INFORMATION: Purpose of the Meeting: The purpose of the open meeting is to obtain and discuss information on the Task Force's congressionally mandated task to examine matters related to sexual assault in the military services through briefings from and discussion with Task Force Sub-committees, Department of Defense (DoD) officials, subject matter experts, victim testimonials and comments from the general populace including Service Members.

The purpose of the Administrative and/or Preparatory work activities meeting:

a. Administrative work activities: to discuss administrative matters or to receive administrative information from a Federal officer or agency; and

b. Preparatory work activities: to gather information, conduct research, or analyze relevant issues and facts in preparation for a meeting of the advisory committee, or to draft position papers for deliberation by the advisory committee.

Pursuant to 41 CFR 102-3.160 meetings convened solely for Administrative and/or Preparatory work activities meetings are exempt from open meeting requirements and is not open to the public.

Agenda Summary:

8 a.m.-12 a.m. Open Meeting.

8 a.m.-11 a.m. Discussion topics: Process Review.

11 a.m.-12 p.m. Public Comment Period.

12 a.m.-1 p.m. Noon Meal.

1 p.m.-3 p.m. Administrative and Preparatory Work Activities Meeting.

The Task Force's open meetings will be held at a place to be determined in San Diego, California from 8 a.m. to 12 p.m. PST, Friday, February 2009 followed by an Administrative and/or Preparatory work activities meeting from 1 p.m. The open meeting is open to the public pursuant to 5 U.S.C. 552b, as amended, and 41 CFR 102-3.140 through 102-3.165, and subject to the availability of space; the Administrative and/or Preparatory work activities meeting, however, is not open to the public and is exempt from open meeting requirements pursuant to 41 CFR 102-3.160.

Pursuant to 41 CFR 102-3.105(j), 102-3.140(c), section 10(a)(3) of the Federal Advisory Committee Act, as amended, and subject to the procedures outlined in this notice any member of the public or interested organization may submit a written statement to the Defense Task Force on Sexual Assault in the Military Services membership about the stated agency and/or to give input as to the mission and function of the task force. Though written statements may be submitted at any time for consideration or in response to a stated agenda to a planned meeting, statements must be received in a timely fashion for consideration at a specific meeting.

All written statements intended to be considered for the open meeting that is subject to this notice shall be submitted to the Designated Federal Officer for the Defense Task Force on Sexual Assault in the Military Services no later than 5 p.m. Eastern Standard Time (hereafter referred to as EST), Wednesday, February 4, 2009. This individual will review all timely submitted written statements and will provide those statements to the task force membership for consideration.

Persons desiring to make an oral presentation to the committee must notify the Designated Federal Officer no later than 5 p.m. EST, Wednesday, February 4, 2009. Oral presentations by members of the public will be permitted only on February 13, 2009, from 11 a.m. to 12 p.m. before the task force. Presentations will be limited to ten (10) minutes each. Number of oral presentations to be made will depend on the number of requests received from members of the public and the time allotted. Each person desiring to make an oral presentation must provide the Designated Federal Officer for the Defense Task Force on Sexual Assault in the Military Services with one (1) written copy of the presentation by 5 p.m. EST, Wednesday, February 4, 2009, and bring 15 written copies of any material that is intended for distribution at the meeting. Contact information for the Designated Federal Officer is provided in this notice or can be obtained from the GSA's FACA Database— https://www.fido.gov/facadatabase/public.asp.

The Designated Federal Officer, pursuant to 41 CFR 102-3.150, will announce planned meetings of the Defense Task Force on Sexual Assault in the Military Services. The Designated Federal Officer, at that time, may provide additional guidance on the submission of written statements and/or live testimony that are in response to the stated agenda for the planned meeting in question.

Dated: January 22, 2009.
Patrica Toppings,
OSD Federal Register Liaison Officer, Department of Defense.

[FR Doc. E9-1905 Filed 1-28-09; 8:45 am]

BILLING CODE 5001-06-P